DEPARTMENT OF ENERGY

Federal Energy Regulatory Commission

[Docket No. CP00-45-000]

Eastern Shore Natural Gas Company; Notice of Intent to Prepare an Environmental Assessment for the Proposed 2000 System Expansion Project; Request for Comments on Environmental Issues and Notice of Site Visit

February 16, 2000.

The staff of the Federal Energy Regulatory Commission (FERC or Commission) will prepare an environmental assessment (EA) that will discuss the environmental impacts of 2000 System Expansion Project involving construction and operation of facilities proposed by Eastern Shore Natural Gas Company (Eastern Shore) in Chester County, Pennsylvania, Cecil County, Maryland, and New Castle and Kent Counties, Delaware.¹ Eastern Shore would construct: 2.1 miles of 16-inch-diameter pipeline loop; 10.1 miles of new 6-inch-diameter pipeline; five delivery points; and minor auxiliary piping and valves at its existing Daleville Compressor Station. Eastern Shore would also abandon 1 mile on 2-inch-diameter pipeline and replace it with 4-inch-diameter pipeline. The facilities would provide additional natural gas delivery capacity to serve increased demands from Eastern Shore's three local distribution companies. This EA will be used by the Commission in its decision-making process to determine whether the project is in the public convenience and necessity.

¹ Eastern Shore's application was filed with the Commission under Section 7 of the Natural Gas Act and Part 157 of the Commission's regulations.

If you are a landowner receiving this notice, you should have been contacted by the pipeline company about the acquisition of an easement to construct, operate, and maintain the proposed facilities. The pipeline company seek to negotiate a mutually acceptable agreement. However, if the project is approved by the Commission, that approval conveys with it the right of eminent domain. Therefore, it easement negotiations fail to produce an agreement, the pipeline company could initiate condemnation proceedings in accordance with state law. A fact sheet prepared by the FERC entitled'' An Interstate Natural Gas Facility on My Land? What Do I Need To Know?'' was attached to the project notice Eastern Shore provided to landowners along and adjacent to the proposed route. This fact sheet addresses a number of typically asked questions, including the use of eminent domain. It is available for viewing on the FERC Internet website (www.ferc.fed.us).

Summary of the Proposed Project

Eastern Shore want to construct the 2000 Expansion Project to expand the capacity of certain of its facilities in Delaware, Pennsylvania, and Maryland to transport an additional 14,130 decatherms per day of natural gas to three local distribution.

The general location of the proposed project facilities is shown in appendix 1, figure 1.²

² The appendices referenced in this notice are not being printed in the Federal Register. Copies are available on the Commission's website at the “RIMS” link or from the Commission's Public Reference and Files Maintenance Branch, 888 First Street NE, Washington, DC 20426, or call (202) 208-1371. For instructions on connecting to RIMS refer to the last page of this notice. Copies of the appendices were sent to all those receiving this notice in the mail.

Eastern Shore seeks authority to

• construct and operate 2.1-miles of 16-inch-diameter pipeline loop adjacent to an existing pipeline on its existing right-of-way in Chester County, Pennsylvania (appendix 1, figure 2);

• abandon one mile of two-inch diameter lateral pipeline and replace it with 4-inch-diameter pipeline in New Castle County, Delaware, and Cecil County, Maryland on existing right-of-way (figure 3); and

• construct and operate 10.1 miles of 6-inch-diameter new mainline and 5 new delivery points (meter and regulator stations) in Kent County, Delaware, primarily on or adjacent to Norfolk Southern Railroad and Delaware Department of Transportation (DelDOT) rights-of-way (figure 4).

Land Requirements for Construction

Construction of the proposed facilities would require about 72 acres of land. Following construction, the land disturbed by construction activities would be restored and allowed to revert to its former use except for 1.53 acres which would be maintained as new aboveground facility sites (the five delivery points). Project construction would generally follow existing utility easement (Eastern Shore, DelDOT, and Norfolk Southern rights-of-way).

During construction 45 acres of temporary easement and 27 acres of permanent pipeline easement would be required. Of the 27 acres of permanent easement, 14.5 acres would be newly acquired (for the 10.1 miles of new mainline in Kent County, Delaware). The shorter pipeline loop and lateral replacement project segments would remain on existing Eastern Shore pipeline easements and would require no more permanent right-of-way beyond the existing 12.5 acres.

The EA Process

The National Environmental Policy Act (NEPA) requires the Commission to take into account the environmental impacts that could result from an action whenever it considers the issuance of a Certificate of Public Convenience and Necessity. NEPA also requires us to discover and address concerns the public may have about proposals. We call this “scoping”. The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

The EA will discuss impacts that could occur as a result of the construction and operation of the proposed project under these general headings:

• geology and soils

• water resources, fisheries, and wetlands

• vegetation and wildlife

• endangered and threatened species

• land use

• cultural resources

• air quality and noise

• hazardous waste

• public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Eastern Shore. This preliminary list of issues may be changed based on your comments and our analysis.

• Nineteen single family homes and one apartment complex are located within 50 feet of the project.

• Two federally listed endangered or threatened species and four state species of concern may occur in the proposed project area.

• A stream which would be crossed 3 times by project construction is under consideration by the National Park Service for Wild and Scenic River designation.

• On February 11, 2000, Eastern Shore filed a route variation which avoids a land parcel on which a cemetery maintained by the Old Fellows is located. The route variation is at approximately mile post 8.5 in Milford, Delaware. We would evaluate the reasonableness of this alternative.

Public Participation

You can make a difference by providing us with your specific comments or concerns about the project. By becoming a commentor, your concerns will be addressed in the EA/EIS and considered by the Commission. You should focus on the potential environmental effects of the proposal, alternatives to the proposal (including alternative [Locations/routes]), and measures to avoid or lessen environmental impact. The more specific your comments, the more useful they will be. Please carefully follow these instructions to ensure that your comments are received in time and properly recorded:

• Send two copies of your letter to: David P. Boergers, Secretary, Federal Energy Regulatory Commission, 888 First St, NE, Room 1A, Washington, DC 20426.

• Label one copy of the comments for the attention of the Environmental Review and Compliance Branch, PR-11.2.

• Reference Docket No. CP00-45-000.

• Mail your comments so that they will be received in Washington, DC on or before March 17, 2000.

If you do not want to send comments at this time but still want to remain on our mailing list, please return the Information Request (appendix 3). If you do not return the Information Request, you may be removed from the environmental mailing list.

On February 23, 2000, the Office of Energy Projects staff will conduct a precertification site visit of the project route and possible alternative routes. All parties may attend. Those planning to attend must provide their own transportation.

Becoming an Intervenor

In addition to involvement in the EA scoping process, you may want to become an official party to the proceeding known as an “Intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from Mr. Paul McKee of the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC internet website, click on the “CIPS” link, select “Docket #” from the CIPS menu, and follow the instructions. For assistance with access to CIPS, the CIPS helpline can be reached at (202) 208-2474.

David P. Boergers,
Secretary.

[FR Doc. 00-4181 Filed 2-22-00; 8:45 am]

BILLING CODE 6717-01-M